DEPARTMENT OF TRANSPORTATION

Federal Aviation Administration

Notice of Intent To Request Revision From the Office of Management and Budget of a Currently Approved Information Collection Activity, Request for Comments; Pilot Schools—FAR 141

AGENCY: Federal Aviation Administration (FAA), DOT

ACTION: Notice and request for comments.

SUMMARY: The FAA invites public comments about our intention to request the Office of Management and Budget (OMB) to approve a current information collection. 14 CFR Part 141 prescribes requirements for pilot schools certification. Information collected is used for certification and to determine compliance.

DATES: Please submit comments by January 4, 2007.

FOR FURTHER INFORMATION CONTACT: Carla Mauney on (202) 267-9895, or by e-mail at: Carla.Mauney@faa.gov.

SUPPLEMENTARY INFORMATION:

Federal Aviation Administration (FAA)

Title: Pilot Schools—FAR141.

Type of Request: Revision of an approved collection.

OMB Control Number: 2120-0009.

Forms(s): FAA form 8420-8.

Affected Public: A total of 546 Respondents.

Frequency: The information is collected on occasion.

Estimated Average Burden per Response: Approximately 54.5 hours per response.

Estimated Annual Burden Hours: An estimated 29,770 hours annually.

Abstract: Chapter 447, Subsection 44707, authorizes certification of civilian schools giving instruction in flying. 14 CFR Part 141 prescribes requirements for pilot schools certification. Information collected is used for certification and to determine compliance. The respondents are applicants who wish to be issued pilot school certificates and associated ratings.

ADDRESSES: Send comments to the FAA at the following address: Ms. Carla Mauney, Room 712, Federal Aviation Administration, Strategy and Investment Analysis Division, AIO-20, 800 Independence Ave., SW., Washington, DC 20591.

Comments are invited on: Whether the proposed collection of information is necessary for the proper performance of the functions of the Department, including whether the formation will have practical utility; the accuracy of the Department's estimates of the burden of the proposed information collection; ways to enhance the quality, utility and clarity of the information to be collected; and ways to minimize the burden of the collection of information on respondents, including the use of automated collection techniques or other forms of information technology.

Issued in Washington, DC on November 28, 2006.
Carla Mauney,
FAA Information Collection Clearance Officer, Strategy and Investment Analysis Division, AIO-20.

[FR Doc. 06-9510 Filed 12-4-06; 8:45 am]

BILLING CODE 4910-13-M